DEPARTMENT OF ENERGY

Energy Information Administration

Agency Information Collection

AGENCY: U.S. Energy Information Administration (EIA), U.S. Department of Energy (DOE).

ACTION: Notice and request for OMB review and comment.

SUMMARY: EIA reinstates the Residential Energy Consumption Survey (RECS), with changes, under OMB Control Number 1905-0092, as required by the Paperwork Reduction Act of 1995. RECS collects data on energy characteristics, consumption, and expenditures for the residential sector of the United States. This collection is comprised of five forms including: Form EIA 457-A Household Survey, Form EIA 457-D Energy Supplier Survey: Household Propane Usage, Form EIA 457-E Energy Supplier Survey: Household Electricity Usage, Form EIA 457-F Energy Supplier Survey: Household Natural Gas Usage, and Form EIA 457-G Energy Supplier Survey: Household Fuel Oil/Kerosene Usage.

DATES: Comments regarding this information collection must be received on or before July 17, 2020.

ADDRESSES: Written comments and recommendations for the proposed information collection should be sent within 30 days of publication of this notice to https://www.reginfo.gov/public/do/PRAMain. Find this particular information collection by selecting “Currently under 30-day Review—Open for Public Comments” or by using the search function.

And send a copy to: James Berry, Survey Manager, 1000 Independence Avenue, SW, EI-22, U.S. Energy Information Administration, Washington, DC 20585, or by email at james.berry@eia.gov.

FOR FURTHER INFORMATION CONTACT: James Berry at 202-586-5543 or by email at james.berry@eia.gov. The forms are available online at: http://www.eia.gov/survey/#eia-457.

SUPPLEMENTARY INFORMATION: This information collection request contains:

(1) OMB No.: 1905-0092;

(2) Information Collection Request Title: EIA-457A, D, E, F, G, 2020 Residential Energy Consumption Survey;

(3) Type of Request: Reinstatement with changes of a previously approved collection;

(4) Purpose: RECS collects information on energy use in housing units and includes a series of data collections from households and household energy suppliers. RECS data are used to generate official statistics about the energy characteristics, consumption, and expenditures of U.S. homes. EIA has conducted the RECS periodically since 1978 and the 2020 RECS will be the 15th data collection for the program.

Form EIA 457-A Household Survey collects information on the presence and characteristics of a wide range of energy consuming devices in homes, including heating and cooling equipment, appliances, and electronics. The Household Survey also asks respondents about key structural features and demographic characteristics that impact energy usage. Forms EIA 457-D, E, F, and G are Energy Supplier Surveys. These surveys collect monthly electricity and natural gas billing data from household survey respondent energy suppliers (e.g., utilities), and periodic propane and fuel oil delivery data from bulk fuel suppliers.

RECS is integral part of EIA's mandate to collect and publish energy end-use consumption data, and the program represent the most comprehensive national and sub-national results available on energy consumption in homes. RECS is the only national and subnational data series that allows policy makers and program implementers in both public and private organizations to analyze trends in energy consumption for the residential sector. RECS fulfills planning, analyses, and decision-making needs of DOE, other Federal agencies, state governments, utilities, researchers, and energy analysts in the private sector.

(4a) Changes to Information Collection: EIA will use online questions via internet and mail hardcopy questionnaires as the two modes of collection for Form EIA 457-A Household Survey. This dual collection mode represents a change from prior collection cycles of RECS where computer assisted personal interviewing (CAPI) was the primary method for collecting household energy characteristics data. EIA piloted three tests using internet and mail questionnaires to determine the feasibility of using these alternative data collection methods. Based on extensive analysis of sample representativeness, nonresponse bias, and data quality, EIA determined that collecting this information via internet and by mail were viable modes for 2020 and future RECS data collections.

EIA will collect 2020 RECS Household Survey responses from approximately 20,000 households. The larger sample enables EIA to produce more precise estimates for key energy metrics, as well as produce some estimates for all 50 states and the District of Columbia.

EIA revised Form EIA 457-A Household Survey to improve the quality of responses for traditional energy-consuming devices, collect information on changes in residential consumption patterns, and collect information on emerging technologies. The new questions collect the most relevant information necessary to estimate household energy use and to inform energy end-use modeling. For Forms EIA 457-D, E, F, and G Energy Supplier Surveys the number of customer (household) billing and delivery months requested increases from 20 to 24 months. The additional four months of energy data improves the practical utility of the energy data reported and enables EIA to analyze household energy consumption patterns before, during, and after COVID-19.

(5) Annual Estimated Number of Respondents: 5,628.

(6) Annual Estimated Number of Total Responses: 5,628.

(7) Annual Estimated Number of Burden Hours: 3,951.

(8) Annual Estimated Reporting and Recordkeeping Cost Burden: EIA estimates that there are no capital and start-up costs associated with this data collection. The information is maintained in the normal course of business. For household respondents no additional record keeping or other burden is required outside the interview process. The annualized cost of burden hours to all household, and energy supplier respondents is estimated to be $316,633 (3,951 annual burden hours times the current hourly rate of $80.14). Other than the cost of burden hours, EIA estimates that there are no additional costs for generating, maintaining and providing the information.

Please refer to the supporting statements as well as the forms and instructions for more information about the purpose, who must report, when to report, where to submit, the elements to be reported, detailed instructions, provisions for confidentiality, and uses (including possible nonstatistical uses) of the information. For instructions on obtaining materials, see the FOR FURTHER INFORMATION CONTACT section.

Statutory Authority: 42 U.S.C. 7135, 15 U.S.C. 772(b), 42 U.S.C. 7101 et seq.

Signed in Washington, DC, on June 11th, 2020.
Thomas Leckey,
Assistant Administrator for Energy Statistics, U.S. Energy Information Administration.

[FR Doc. 2020-13039 Filed 6-16-20; 8:45 am]

BILLING CODE 6450-01-P